DEPARTMENT OF THE INTERIOR

National Park Service

[NPS-WASO-NRNHL-DTS#-31186; ;PPWOCRADI0, PCU00RP14.R50000]

National Register of Historic Places; Notification of Pending Nominations and Related Actions

AGENCY: National Park Service, Interior.

ACTION: Notice.

SUMMARY: The National Park Service is soliciting electronic comments on the significance of properties nominated before November 14, 2020, for listing or related actions in the National Register of Historic Places.

DATES: Comments should be submitted electronically by December 9, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before November 14, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

California

Contra Costa County

Chinese Shrimp Camp (Asian Americans and Pacific Islanders in California, 1850-1970 MPS), Address Restricted, Richmond vicinity, MP100005934

Los Angeles County

Pioneer Oil Refinery, 0.35 mi. southwest of jct. of Pine St. and Newhall Ave., Santa Clarita, SG100005942

Orange County

North Beach Historic District, Roughly bounded by North El Camino Real, Avenida Estacion, and Boca De La Playa, San Clemente, SG100005943

Georgia

Troup County

Miller, Henry and Lura, House, 1603 US 29, West Point, SG100005926

Kansas

Douglas County

Cohn/Gardner-Hill & Company Store, 714 Main St., Eudora, SG100005945

Reuter Organ Company Buildings (Lawrence, Kansas MPS), 612-616 New Hampshire St., Lawrence, MP100005946

Winter School No. 70 (Public Schools of Kansas MPS), 744 North 1800 Rd., Lecompton vicinity, MP100005947

Elk County

Howard National Bank, 147-149 North Wabash St. (County appraiser states 143 North Wabash St.), Howard, SG100005948

Geary County

Lyon Creek Rainbow Arch (Rainbow Arch Marsh Arch Bridges of Kansas TR), 100 ft. southwest from the jct. of Lyon Creek Rd. & Hwy. K-157 Spur, Wreford, MP100005949

Kingman County

Werner, Louis, Barn (Agriculture-Related Resources of Kansas MPS), 4550 NE 80th Ave., Pretty Prairie, MP100005952

Lyon County

Rocky Ford Bridge (Metal Truss Bridges in Kansas 1861-1939 MPS), 3.5m east of Commercial St. & East 6th Ave., Emporia, MP100005953

Osage County

Star Block, 520 and 522 Market St., Osage City, SG100005954

Shawnee County

Fire Station No. 1, 934 NE Quincy St., Topeka, SG100005955

Louisiana

Lafayette Parish

Oil Center Historic District (Architecture of A. Hays Town in Louisiana MPS), Roughly bounded by East St. Mary Blvd., West Pinhook Rd., Travis St., Heyman and Audubon Blvds., Harding and Coolidge Sts., Lafayette, MP100005941

Maine

Knox County

Herald Building, 10 Bay View St., Camden, SG100005940

New Mexico

Rio Arriba County

O'Keeffe, Georgia, Ghost Ranch House, US-84, 280 Private Dr. 1708, House 115 northwest of the Ghost Ranch Education and Retreat Center, Abiquiu vicinity, SG100005933

New York

Ontario County

Wheeler, George and Addison, House (Boundary Increase), 6353 and 6342 Grimble Rd., East Bloomfield vicinity, BC100005957

North Carolina

Mecklenburg County

Ingleside, 7225 Bud Henderson Rd., Huntersville, SG100005958

Pennsylvania

Allegheny County

Hazelwood Brewing Company, 5007, 5009, and 5011 Lytle St., Pittsburgh, SG100005931

Texas

Taylor County

Abilene Commercial Historic District (Boundary Increase) (Abilene MPS), 302 Pine St., Abilene, BC100005936

Virginia

Albemarle County

River View Farm, 1780 Earlysville Rd., Charlottesville vicinity, SG100005925

West Virginia

Greenbrier County

Mountain Home (Boundary Increase), 38221 Midland Trail East, White Sulphur Springs vicinity, BC100005944

A request for removal has been made for the following resources:

Indiana

Clay County

Indiana State Highway Bridge 46-11-1316, IN 46 over Eel R., Bowling Green vicinity, OT00000211

Kansas

Harper County

Thompson-Wohlschlegel Round Barn, 855 NE 40th Ave., Harper vicinity, OT85000315

Additional documentation has been received for the following resources:

Arkansas

Pulaski County

Capitol View Neighborhood Historic District (Additional Documentation), Roughly bounded by Riverview Dr., S. Schiller St., W. Seventh St. and Woodrow St., Little Rock, AD00000813

Kansas

Harvey County

McKinley Residential Historic District (Additional Documentation), Roughly East 5th St., SE 3rd St., Allison St., Walnut St., Newton, AD08000670

Maine

Cumberland County

Spring Street Historic District (Additional Documentation), Roughly bounded by Forest, Oak, Danforth, Brackett, and Pine Sts., Portland, AD70000043

Franklin County

Greenwood, Chester and Isabel, House (Additional Documentation), 112 Hill St., Farmington, AD78000160

New York

Ontario County

Wheeler, George and Addison, House (Additional Documentation), 6353 Grimble Rd., East Bloomfield vicinity, AD05000168

Authority: Section 60.13 of 36 CFR part 60.

Dated: November 18, 2020.
Sherry A. Frear,
Chief, National Register of Historic Places/National Historic Landmarks Program.

[FR Doc. 2020-25967 Filed 11-23-20; 8:45 am]

BILLING CODE 4312-52-P